DEPARTMENT OF THE INTERIOR

National Park Service

[NPS-WASO-NAGPRA-NPS0030352; PPWOCRADN0-PCU00RP14.R50000]

Notice of Inventory Completion: History Colorado, Formerly Colorado Historical Society, Denver, CO

AGENCY: National Park Service, Interior.

ACTION: Notice.

SUMMARY: History Colorado has completed an inventory of human remains in consultation with the appropriate Indian Tribes or Native Hawaiian organizations, and has determined that there is no cultural affiliation between the human remains and any present-day Indian Tribes or Native Hawaiian organizations. Representatives of any Indian Tribe or Native Hawaiian organization not identified in this notice that wish to request transfer of control of these human remains should submit a written request to History Colorado. If no additional requestors come forward, transfer of control of the human remains to the Indian Tribes or Native Hawaiian organizations stated in this notice may proceed.

DATES: Representatives of any Indian Tribe or Native Hawaiian organization not identified in this notice that wish to request transfer of control of these human remains should submit a written request with information in support of the request to History Colorado at the address in this notice by July 10, 2020.

ADDRESSES: Isabel Tovar, History Colorado, 1200 Broadway, Denver, CO 80203, telephone (303) 866-4531, email isabel.tovar@state.co.us.

SUPPLEMENTARY INFORMATION: Notice is here given in accordance with the Native American Graves Protection and Repatriation Act (NAGPRA), 25 U.S.C. 3003, of the completion of an inventory of human remains under the control of History Colorado, Denver, CO. The human remains were removed from Lincoln County, CO.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by History Colorado professional staff in consultation with representatives of the following Indian Tribes: The Arapaho Tribe of the Wind River Reservation, Wyoming; Cheyenne and Arapaho Tribes, Oklahoma (previously listed as Cheyenne-Arapaho Tribes of Oklahoma); Comanche Nation, Oklahoma; Eastern Shoshone Tribe of the Wind River Reservation, Wyoming; Fort Sill Apache Tribe of Oklahoma; Jicarilla Apache Nation, New Mexico; Mescalero Apache Tribe of the Mescalero Reservation, New Mexico; Northern Cheyenne Tribe of the Northern Cheyenne Indian Reservation, Montana; Oglala Sioux Tribe (previously listed as Oglala Sioux Tribe of the Pine Ridge Reservation, South Dakota); Pawnee Nation of Oklahoma; Pueblo of Santa Clara, New Mexico; Rosebud Sioux Tribe of the Rosebud Indian Reservation, South Dakota; Southern Ute Indian Tribe of the Southern Ute Reservation, Colorado; Standing Rock Sioux Tribe of North & South Dakota; Three Affiliated Tribes of the Fort Berthold Reservation, North Dakota; Ute Mountain Ute Tribe (previously listed as Ute Mountain Tribe of the Ute Mountain Reservation, Colorado, New Mexico & Utah); and the Zuni Tribe of the Zuni Reservation, New Mexico. The Apache Tribe of Oklahoma; Crow Creek Sioux Tribe of the Crow Creek Reservation, South Dakota; Crow Tribe of Montana; Kiowa Indian Tribe of Oklahoma; Ohkay Owingeh, New Mexico (previously listed as Pueblo of San Juan); and the Pueblo of San Felipe, New Mexico were invited to consult but did not participate. Hereafter, all the Tribes listed above are referred to as “The Consulted and Invited Tribes.”

History and Description of the Remains

Around 1935, human remains representing, at minimum, one individual were removed from a site one and a half miles west of Karval, Lincoln County, CO. In August 2018, a private citizen rediscovered the human remains—a cranium—while helping a family friend whose father had removed the cranium. The Lincoln County Coroner ruled out a forensic interest and released jurisdiction over the human remains to the Office of the State Archaeologist. Osteological analysis of the human remains (OAHP 337) conducted at the Metropolitan State University of Denver Human Identification Laboratory determined that the human remains belong to a Native American adult female. No known individual was identified. No associated funerary objects are present.

Determinations Made by History Colorado

Officials of History Colorado have determined that:

• Pursuant to 25 U.S.C. 3001(9), the human remains described in this notice are Native American based on osteological analysis and burial context.

• Pursuant to 25 U.S.C. 3001(9), the human remains described in this notice represent the physical remains of one individual of Native American ancestry.

• Pursuant to 25 U.S.C. 3001(2), a relationship of shared group identity cannot be reasonably traced between the Native American human remains and any present-day Indian Tribe.

• According to final judgments of the Indian Claims Commission or the Court of Federal Claims, the land from which the Native American human remains were removed is the aboriginal land of the Arapaho Tribe of the Wind River Reservation, Wyoming; Cheyenne and Arapaho Tribes, Oklahoma (previously listed as Cheyenne-Arapaho Tribes of Oklahoma); and the Northern Cheyenne Tribe of the Northern Cheyenne Indian Reservation, Montana (hereafter referred to as “The Tribes”).

• Treaties, Acts of Congress, or Executive Orders indicate that the land from which the Native American human remains were removed is the aboriginal land of The Tribes.

• Pursuant to 43 CFR 10.11(c)(1), the disposition of the human remains may be to The Tribes.

Additional Requestors and Disposition

Representatives of any Indian Tribe or Native Hawaiian organization not identified in this notice that wish to request transfer of control of these human remains should submit a written request with information in support of the request to Isabel Tovar, History Colorado, 1200 Broadway, Denver, CO 80203, telephone (303) 866-4531, email isabel.tovar@state.co.us, by July 10, 2020. After that date, if no additional requestors have come forward, transfer of control of the human remains to The Tribes may proceed.

History Colorado is responsible for notifying The Consulted and Invited Tribes that this notice has been published.

Dated: May 15, 2020.
Melanie O'Brien,
Manager, National NAGPRA Program.

[FR Doc. 2020-12554 Filed 6-9-20; 8:45 am]

BILLING CODE 4312-52-P